EXPORT-IMPORT BANK

[Public Notice 2014-3009]

Agency Information Collection Activities: Comment Request

AGENCY: Export-Import Bank of the United States.

ACTION: Submission for OMB review and comments request.

Form Title: EIB 14-01 Small Business Exporter Survey.

SUMMARY: The Export-Import Bank of the United States (Ex-Im Bank), as a part of its continuing effort to reduce paperwork and respondent burden, invites the general public and other Federal Agencies to comment on the proposed information collection, as required by the Paperwork Reduction Act of 1995.

The small business exporter survey seeks to obtain feedback from customers on trade credit insurance policy purchases made in a Fiscal Year. This survey will help Ex-Im Bank better understand small business customers' perspectives on the bank's products, the level of service provided, and how Ex-Im Bank's assistance impacts their small business. The objective is to identify possible service improvements and better understand small business owners' experiences working with Ex-Im Bank.

The survey can be reviewed at: https://www.surveymonkey.com/s/SBCustomerSurvey

DATES: Comments should be received on or before February 27, 2014.

ADDRESSES: Comments may be submitted electronically on www.regulation.gov or by mail to Office of Information and Regulatory Affairs, 725 17th Street NW., Washington, DC 20038 Attn: OMB 3048-14-01.

SUPPLEMENTARY INFORMATION: Titles and Form Number: EIB 14-01 Small Business Exporter Survey.

OMB Number: 3048-XXXX.

Type of Review: Regular.

Need and Use: The information requested enables Ex-Im Bank to identify possible service improvements to the benefit of small business exporters.

The number of respondents: 1,808.

Estimated time per respondents: 10 minutes.

The frequency of response: Annually.

Annual hour burden: 301.3 total hours.

Government Expenses

Reviewing time per response: 5 minutes.

Responses per year: 1,808.

Reviewing time per year: 150.7 hours.

Average wages per hour: $42.50.

Average cost per year: (time * wages) $6,403.

Benefits and overhead: 20%.

Total Government Cost: $7,684.

Alla Lake,
Clearance Officer, Records Management Division.

[FR Doc. 2014-01544 Filed 1-27-14; 8:45 am]

BILLING CODE 6690-01-P